DEPARTMENT OF ENERGY

Extension of the Public Comment Period for the U.S. Department of Energy Interpretation of High-Level Radioactive Waste

AGENCY: Office of Environmental Management, U.S. Department of Energy.

ACTION: Extension of public comment period.

SUMMARY: The U.S. Department of Energy (DOE) is extending the public comment period for the request for public comments on its proposed interpretation of the statutory term high-level radioactive waste (HLW). DOE published a notice in the Federal Register on October 10, 2018, establishing a 60-day public comment period ending on December 10, 2018. DOE is extending the public comment period for 30 days, ending on January 9, 2019.

DATES: The comment period for the Notice published on October 10, 2018 (83 FR 50909) is extended. DOE will consider all comments submitted or postmarked by January 9, 2019.

ADDRESSES: Please direct comments to:

(a) Email: Send comments to HLWnotice@em.doe.gov. Please submit comments in Microsoft™ Word, or PDF file format, and avoid the use of encryption.

(b) Mail: Send to the following address: Theresa Kliczewski, U.S. Department of Energy, Office of Environmental Management, Office of Waste and Materials Management (EM-4.2), 1000 Independence Avenue SW, Washington, DC 20585.

FOR FURTHER INFORMATION CONTACT: Ms. Theresa Kliczewski at HLWnotice@em.doe.gov or at U.S. Department of Energy, Office of Environmental Management, Office of Waste and Materials Management (EM-4.2), 1000 Independence Avenue SW, Washington, DC 20585. Telephone: (202) 586-3301.

SUPPLEMENTARY INFORMATION: On October 10, 2018, DOE published a notice in the Federal Register [83 FR 50909] soliciting public comment on its interpretation of the statutory term high-level radioactive waste (HLW) as set forth in the Atomic Energy Act of 1954 and the Nuclear Waste Policy Act of 1982. This statutory term indicates that not all wastes from reprocessing of spent nuclear fuel are HLW, and DOE interprets the statutory term such that some reprocessing wastes may be classified as not HLW (non-HLW) and may be disposed of in accordance with their radiological characteristics. DOE established a 60-day public comment period ending on December 10, 2018. DOE has received public comments in response to the Notice, including requests from several entities requesting extensions of the public comment period. Commenters noted the significance of this matter, the overlap in comment periods with another DOE radioactive waste proceeding at DOE's Hanford site, etc. DOE has reviewed the requests for an extension of the public comment period and considered the benefit to DOE and stakeholders in providing additional time to the public to review the Notice and provide comments to DOE on its HLW interpretation. Accordingly, DOE has determined that an extension of the comment period is appropriate, and is hereby extending the comment period an additional 30 days, with the public comment period ending on January 9, 2019.

Issued at Washington, DC, on November 28, 2018.
Anne Marie White,
Assistant Secretary, Office of Environmental Management.

[FR Doc. 2018-26319 Filed 12-3-18; 8:45 am]

BILLING CODE 6450-01-P